DEPARTMENT OF COMMERCE

National Oceanic and Atmospheric Administration

[I.D. 111803D]

Pacific Fishery Management Council; Public Meeting

AGENCY: National Marine Fisheries Service (NMFS), National Oceanic and Atmospheric Administration (NOAA), Commerce.

ACTION: Notice of public meetings.

SUMMARY: The Pacific Fishery Management Council's (Council) Model Evaluation Workgroup (MEW) will hold a work session, which is open to the public, to discuss documentation of the Chinook and Coho Fishery Regulation Assessment Model (FRAM).

DATES: The work session will be held Wednesday, December 10, 2003 from 9:30 a.m. to 4 p.m.

ADDRESSES: The work session will be held at the Pacific Fishery Management Council, West Conference Room, 7700 NE Ambassador Place, Suite 200, Portland, OR 97220-1384, (503) 820-2280.

Council address: Pacific Fishery Management Council, 7700 NE Ambassador Place, Suite 200, Portland, OR 97220-1384.

FOR FURTHER INFORMATION CONTACT: Mr. Chuck Tracy, (503) 820-2280.

SUPPLEMENTARY INFORMATION: The purpose of the work session is to review progress on development of a programmers guide and a users manual for the Chinook and Coho FRAM, and to prioritize and schedule upcoming tasks.

Although non-emergency issues not contained in the meeting agenda may come before the MEW for discussion, those issues may not be the subject of formal MEW action during this meeting. MEW action will be restricted to those issues specifically listed in this notice and any issues arising after publication of this notice that require emergency action under Section 305(c) of the Magnuson-Stevens Fishery Conservation and Management Act, provided the public has been notified of the MEW's intent to take final action to address the emergency.

Special Accommodations

This meeting is physically accessible to people with disabilities. Requests for sign language interpretation or other auxiliary aids should be directed to Ms. Carolyn Porter at (503) 820-2280 at least 5 days prior to the meeting date.

Dated: November 19, 2003.
Richard W. Surdi,
Acting Director, Office of Sustainable Fisheries, National Marine Fisheries Service.

[FR Doc. E3-00370 Filed 11-21-03; 8:45 am]

BILLING CODE 6717-01-P